DEPARTMENT OF ENERGY

Federal Energy Regulatory Commission

[Docket No. PF06-32-000]

Transcontinental Gas Pipe Line Corporation; Notice of Intent To Prepare an Environmental Assessment for the Proposed Sentinel Expansion Project; Request for Comments on Environmental Issues and Notice of Public Scoping Meeting

October 18, 2006.

The staff of the Federal Energy Regulatory Commission (FERC or Commission) will prepare an environmental assessment (EA) that will discuss the environmental impacts of Transcontinental Gas Pipe Line Corporation's (Transco's) planned Sentinel Expansion Project located in Pennsylvania and New Jersey. This notice explains the scoping process that will be used to gather input from the public and interested agencies on the project. Your input will help the Commission staff determine which issues need to be evaluated in the EA. Please note that the scoping period will close on November 18, 2006.

Comments may be submitted in written form or verbally. In lieu of sending written comments, you are invited to attend the public scoping meeting that has been scheduled in the project area in Exton, Pennsylvania, on November 8, 2006. Further details on how to submit written comments and additional details of the public scoping meeting area are provided in the public participation section of this notice.

The FERC will be the lead Federal agency for the preparation of the EA. The document will satisfy the requirements of the National Environmental Policy Act (NEPA) and will be used by the FERC to consider the environmental impacts that could result if it issues Transco a Certificate of Public Convenience and Necessity under Section 7 of the Natural Gas Act.

With this notice, the FERC staff is asking other Federal, State, local, and tribal agencies with jurisdiction and/or special expertise with respect to environmental issues to cooperate with us in the preparation of the EA. These agencies may choose to participate once they have evaluated Transco's proposal relative to their responsibilities. Agencies that would like to request cooperating status should follow the instructions for filing comments described later in this notice.

This notice is being sent to affected landowners; Federal, State, and local government representatives and agencies; environmental and public interest groups; Native American tribes; other interested parties in this proceeding; and local libraries and newspapers. We encourage government representatives to notify their constituents of this planned project and encourage them to comment on their areas of concern.

If you are a landowner receiving this notice, you may be contacted by a Transco representative about the acquisition of an easement to construct, operate, and maintain the proposed facilities. The pipeline company would seek to negotiate a mutually acceptable agreement. However, if the project is approved by the FERC, that approval conveys with it the right of eminent domain. Therefore, if easement negotiations fail to produce an agreement, the pipeline company could initiate condemnation proceedings in accordance with State law.

A fact sheet prepared by the FERC, “An Interstate Natural Gas Facility on My Land? What Do I Need To Know?” is available for viewing on the FERC Web site (http://www.ferc.gov). This fact sheet addresses a number of typically asked questions, including those focusing on the use of eminent domain and how to participate in the FERC's proceedings.

Summary of the Proposed Project

Transco proposes to expand its natural gas transmission system to provide incremental firm service of 151,000 dekatherms per day (Dt/d) in Transco's market area. More specifically, Transco seeks authority to construct the following facilities in various counties in Pennsylvania and New Jersey:

• Construct approximately 10.58 miles of 42-inch-diameter pipeline loop in Chester County, Pennsylvania (Downingtown Loop);

• Construct approximately 5.48 miles of 42-inch-diameter extension in Luzerne County, Pennsylvania (Conygham Loop);

• Construct approximately 5.27 miles of 42-inch-diameter pipeline extension in Northampton and Monroe Counties, Pennsylvania (Wind Gap Loop);

• Construct approximately 3.78 miles of 42-inch-diameter pipeline loop in Somerset County, New Jersey (Mountain View Loop);

• Construct approximately 1.25 miles of 42-inch-diameter pipeline extension in Union County, New Jersey (Turnpike Loop); and

• Modifications at two existing compressor stations in York and Chester Counties, Pennsylvania.

Location maps depicting Transco's proposed facilities and alternate sites are provided in Appendix 1.¹

¹ The appendices referenced in this notice are not being printed in the Federal Register. Copies are available on the Commission's Web site (excluding maps) at the eLibrary link or from the Commission's Public Reference Room or by calling (202) 502-8371. For instructions on connecting to eLibrary, refer to the end of this notice. Copies of the appendices were sent to all those receiving this notice in the mail.

The EA Process

NEPA requires the FERC to take into account the environmental impacts that could result from an action whenever it considers the issuance of a Certificate of Public Convenience and Necessity. The EA will give the FERC the information needed to do that.

Although no formal application has been filed, we have already initiated a NEPA review under the FERC's Pre-filing Process, which was established in Docket No. RM05-31-000 and Order No. 665. The purpose of the Pre-filing Process is to seek public and agency input early in the project planning phase and encourage involvement by interested stakeholders in a manner that allows for the early identification and resolution of environmental issues. We will work with all interested stakeholders to identify and attempt to address issues before Transco files its application with the FERC. A diagram depicting the environmental review process for the proposed project is attached to this notice as Appendix 2.

As part of the Pre-filing Process review, FERC staff representatives participated in public open houses sponsored by Transco in the project area on August 21-23, 2006, to explain the environmental review process to interested stakeholders and take comments about the project. In November 2006, we plan to continue the Pre-filing Process review by conducting interagency scoping meetings in the project area to solicit comments and concerns about the project from other jurisdictional agencies.

By this notice, the FERC Staff is formally announcing their preparation of the EA and requesting agency and public comments to help focus the analysis in the EA on the potentially significant environmental issues related to the proposed action. If you provide comments at an interagency scoping meeting, you do not need to resubmit the same comments in response to this notice.

The FERC Staffs' independent analysis of the issues will be included in the EA. The EA will be mailed to Federal, State, and local government agencies; elected officials; environmental and public interest groups; Native American tribes; affected landowners; other interested parties; local libraries and newspapers; and the FERC's official service list for this proceeding. A 30-day comment period will be allotted for review of the EA. We will consider all comments submitted on the EA in any Commission Order that is issued for the project.

Currently Identified Environmental Issues

We have already identified several issues that we think deserve attention based on a preliminary review of the proposed facilities, environmental information provided by Transco, and comments gathered from concerned citizens at Transco's open houses. This preliminary list of issues may be changed based on your comments and our analysis:

• Potential impacts on the Brandywine Creek;

• Potential impacts on the coastal zone in New Jersey;

• Potential impacts on wetlands;

• Potential impacts on threatened or endangered species;

• Potential impacts on the Appalachian Trail;

• Safety concerns of the pipeline;

• Potential impacts on residential areas; and

• Potential impacts on historic resources.

Public Participation

You can make a difference by providing us with your specific comments or concerns about the proposals. Your comments should focus on the potential environmental effects and reasonable alternatives and measures to avoid or lessen environmental impacts. The more specific your comments, the more useful they will be. To expedite our receipt and consideration of your comments, electronic submission of them is strongly encouraged. See Title 18 CFR 385.2001(a)(1)(iii) and the instructions on the FERC Web site (http://www.ferc.gov) under the eFiling link and the link to the User's Guide. Before you can submit comments you will need to create a free account by clicking on Sign-up under New User. You will be asked to select the type of submission you are making. This type of submission is considered a Comment on Filing. Comments submitted electronically must be submitted by November 18, 2006.

If you wish to mail your comments, please mail them so that they will be received in Washington, DC, on or before November 18, 2006, and carefully follow these instructions:

• Send an original and two copies of your letter to: Magalie R. Salas, Secretary, Federal Energy Regulatory Commission, 888 First St., NE., Room 1A, Washington, DC 20426;

• Label one copy of the comments for the attention of Gas Branch 2, DG2E; and

• Reference Docket No. PF06-32-000 on the original and both copies.

The public scoping meeting is designed to provide another opportunity to offer comments on the proposed project. Interested groups and individuals are encouraged to attend the meeting and present comments on the environmental issues they believe should be addressed in the EA. A transcript of the meeting will be generated so that your comments will be accurately recorded. The meeting is scheduled for November 8, 2006, at 7 p.m. (EST) and will be held at: The Inn at Chester Springs, The Pickering II Room, 815 North Pottstown Pike, Exton, PA 19341; (610) 363-1100.

When Transco submits its application for authorization to construct and operate the Sentinel Expansion Project, the Commission will publish a Notice of Application in the Federal Register and will establish a deadline for interested persons to intervene in the proceeding. Because the Commission's Pre-filing Process occurs before an application to begin a proceeding is officially filed, petitions to intervene during this process are premature and will not be accepted by the Commission.

Environmental Mailing List

Everyone who responds to this notice or provides comments throughout the EA process will be retained on the mailing list. If you do not want to send comments at this time but still want to stay informed and receive copies of the EA, you must return the Mailing List Retention Form (Appendix 3). If you do not send comments or return the Mailing List Retention Form asking to remain on the mailing list, you will be taken off the mailing list.

Availability of Additional Information

Additional information about the project is available from the Commission's Office of External Affairs at 1-866-208 FERC (3372) or on the FERC Web site (http://www.ferc.gov). Using the eLibrary link, select General Search from the eLibrary menu, enter the selected date range and Docket Number (i.e., PF06-32-000), and follow the instructions. Searches may also be done using the phrase “Sentinel Expansion” in the Text Search field. For assistance with access to eLibrary, the helpline can be reached at 1-866-208-3676, TTY (202) 502-8659, or at FERCOnlineSupport@ ferc.gov. The eLibrary link on the FERC Web site also provides access to the texts of formal documents issued by the Commission, such as orders, notices, and rule makings.

In addition, the FERC now offers a free service called eSubscription that allows you to keep track of all formal issuances and submittals in specific dockets. This can reduce the amount of time you spend researching proceedings by automatically providing you with notification of these filings, document summaries, and direct links to the documents. To register for this service, go to http://www.ferc.gov/esubscribenow.htm.

Public meetings or site visits will be posted on the Commission's calendar located at http://www.ferc.gov/EventCalendar/EventsList.aspx along with other related information. Finally, Transco has established a Web site for its project at http://www.williams.com/sentinel. The site includes a project overview, contact information, regulatory overview, and construction procedures. Transco will continue to update its Web site with information about the project. You can also request additional information by calling Transco directly, toll-free at 1-866-455-9103.

Magalie R. Salas,
Secretary.

[FR Doc. E6-18099 Filed 10-27-06; 8:45am]

BILLING CODE 6717-01-P